DEPARTMENT OF HOUSING AND URBAN DEVELOPMENT

[Docket No. FR-5832-N-12]

60 Day Notice of Proposed Information Collection: Indian Community Capital Initiative: Withdrawal Notice

AGENCY: Office of Community Planning and Development, HUD.

ACTION: Notice; withdrawal.

SUMMARY: Please be advised that the funds that were recaptured from the RHED program slated to be used for the Indian Community Capital Initiative has been “rescinded permanently.” As a result, HUD requested that the PRA for Indian Community Capital Initiative be canceled.

DATES: The notice published on November 28, 2015 at 80 FR 72105 is withdrawn as of February 3, 2016.

FOR FURTHER INFORMATION CONTACT: Thann Young, Office of Rural Housing and Economic Development, Department of Housing and Urban Development, 451 7th Street SW., Room 7240, Washington, DC 20410; email Thann Young at Thann.Young@hud.gov or telephone 202-708-2290. This is not a toll-free number. Persons with hearing or speech impairments may access this number through TTY by calling the toll-free Federal Relay Service at (800) 877-8339.

SUPPLEMENTARY INFORMATION: This notice informs the public that HUD is withdrawing their approval from OMB for the information collection described in Section A.

A. Overview of Information Collection

Title of Information Collection: Indian Community Capital Initiative.

OMB Approval Number: 2506-new.

Type of Request: New Collection.

Form Numbers: SF 424; HUD 424CB; HUD 424-CBW; SF-LLL; HUD 2880; HUD 2990; HUD 2991; HUD 2993; HUD 2994A; HUD 27061; and HUD 27300.

Description of the need for the information and proposed use: The Indian Community Capital Initiative (ICCI) is a collaborative effort among three federal agencies—the Department of Housing and Urban Development (HUD), the Department of the Treasury—Community Development Financial Institutions Fund (CDFI Fund), and the Department of Agriculture—Rural Development (USDA-RD). The ICCI's goal is to increase access to capital for business lending and economic development and entrepreneurship for Federally recognized Indian tribes.

Federally recognized Indian tribe means any tribal entity eligible to apply for funding and services from the Bureau of Indian Affairs by virtue of its status as an Indian tribe. The list of Federally recognized Indian tribes can be found in the notice published by the Department of the Interior on January 14, 2015 (Federal Register/Vol. 80, No. 9/Wednesday, January 14, 2015/Notices).

Respondents (i.e., affected public): Public.

Estimated Number of Respondents: 566.

Estimated Number of Responses: 566.

Frequency of Response: 1.

Average Hours per Response: 7,211.

Total Estimated Burdens:

| Respondents | Annual responses | Total responses | Burden per response | Total annual hours | Burden cost per instrument
HUD-424CB | 566 | 1 | 566 | 3.12 | 1,766 | 44,150
HUD-424CBW | 566 | 1 | 566 | 3.12 | 1,766 | 44,150
HUD-2880 | 566 | 1 | 566 | 2.0 | 1,132 | 28,300
HUD-2990 | 566 | 1 | 566 | 0 | 0 | 0
HUD-2991 | 566 | 1 | 566 | 0 | 0 | 0
HUD-2993 | 566 | 1 | 566 | 0 | 0 | 0
HUD-2994A | 566 | 1 | 566 | .5 | 283 | 7,075
HUD-27061 | 566 | 1 | 566 | 1.0 | 566 | 14,150
HUD-27300 | 566 | 1 | 566 | 3.0 | 1,698 | 42,450
| 5,094 |  | 5,094 |  | 7,211 | 180,275

Date: January 27, 2016.
Harriet Tregoning,
Principal Deputy Assistant Secretary for Community Planning and Development.

[FR Doc. 2016-01919 Filed 2-2-16; 8:45 am]

BILLING CODE 4210-67-P